DEPARTMENT OF TRANSPORTATION

National Highway Traffic Safety Administration

49 CFR Part 571

[Docket No. NHTSA-2007-0052]

RIN 2127-AJ93

Federal Motor Vehicle Safety Standards; Platform Lifts for Motor Vehicles; Platform Lift Installations in Motor Vehicles

AGENCY: National Highway Traffic Safety Administration (NHTSA), Department of Transportation (DOT).

ACTION: Notice of proposed rulemaking (NPRM); grant in part, denial in part of petitions for rulemaking.

SUMMARY: This document responds to six petitions for rulemaking to amend the Federal motor vehicle safety standards on platform lift systems for motor vehicles. The purpose of these standards is to prevent injuries and fatalities during lift operation. Pursuant to the agency's partial grant of the petitions, NHTSA proposes to amend the platform lift standards to revise the lighting requirements for lift controls; the location, performance requirements, and test specifications for threshold warning signals; the specifications for the wheelchair test device; the wheelchair retention device and inner roll stop tests; and the lighting requirements for public use lifts.

In addition, NHTSA denies a request to amend the wheelchair test device specifications to include anti-tipping devices and proposes several technical changes designed to further clarify these standards. Finally, this notice discusses a November 3, 2005, interpretation clarifying specific components of the threshold warning signal test specified in one of the standards.

DATES: Comments must be received on or before February 19, 2008.

ADDRESSES: You may submit comments to the docket number identified in the heading of this document by any of the following methods:

• Federal eRulemaking Portal: go to http://www.regulations.gov. Follow the online instructions for submitting comments.

• Mail: Docket Management Facility, M-30, U.S. Department of Transportation, West Building, Ground Floor, Rm. W12-140, 1200 New Jersey Avenue, SE., Washington, DC 20590.

• Hand Delivery or Courier: West Building Ground Floor, Room W12-140, 1200 New Jersey Avenue, SE., between 9 a.m. and 5 p.m. Eastern Time, Monday through Friday, except Federal holidays.

• Fax: (202) 493-2251.

Regardless of how you submit your comments, you should mention the docket number of this document.

You may call the Docket Management Facility at 202-366-9826.

Instructions: For detailed instructions on submitting comments and additional information on the rulemaking process, see the Public Participation heading of the Supplementary Information section of this document. Note that all comments received will be posted without change to http://www.regulations.gov, including any personal information provided.

Privacy Act: Please see the Privacy Act heading under Rulemaking Analyses and Notices.

FOR FURTHER INFORMATION CONTACT: For technical and policy issues, you may contact Mr. William Evans, Office of Crash Avoidance Safety Standards at (telephone: 202-366-2272) (Fax: 202-493-2990). For legal issues, you may contact Mr. Edward Glancy, Office of Chief Counsel (Telephone: 202-366-2992) (Fax: 202-366-3820). You may send mail to these officials at the National Highway Traffic Safety Administration, U.S. Department of Transportation, 1200 New Jersey Avenue, SE., West Building, Washington, DC 20590.

SUPPLEMENTARY INFORMATION:

Table of Contents

I. Background

II. Petitions for Rulemaking

A. Amend the Control Panel Switch Requirements in S6.7.6.2 of FMVSS No. 403 So That Lift Controls in a Location Remote From the Driver's Seating Position Are Not Subject to the Illumination Requirements in S5.3 of FMVSS No. 101

B. Amend the Threshold Warning Signal Requirements in S6.1.4 of FMVSS No. 403 To Permit Warning Lights To Be Mounted in a Location Clearly Visible in Reference to the Lift

C. Amend the Threshold Warning Signal Requirements in S6.1.4 and S6.1.6 of FMVSS No. 403 To Clarify the Units of Measurement and Minimum Required Luminance at the Designated Measurement Point

D. Amend the Threshold Warning Test in S7.4 of FMVSS No. 403 To Include a Performance Test for Warning Systems Using Infrared and Other Sensor Technologies

E. Amend the Wheelchair Test Device Specification in S7.1.2 of FMVSS No. 403 To Include Anti-Tip Devices

F. Amend the Wheelchair Retention Impact Test Specifications in S7.7 of FMVSS No. 403 To Permit Use of a Loaded Wheelchair Test Device

G. Amend the Requirements for Platform Lighting on Public Lifts in S4.1.5 of FMVSS No. 404 To Reduce the Illumination Levels to Those Specified by the ADA and FTA

III. Technical Changes

A. Amend S7 of FMVSS No. 403 To Require Performance of the Handrail Test in S7.12 on a Lift/Vehicle Combination Rather Than on a Test Jig

B. Correct Figure 2 in FMVSS No. 403 To Make It Consistent With the Threshold Beacon Warning Requirements in S6.1.6

C. Clarify the Control Panel Switch Requirements in S6.7.4 of FMVSS No. 403

D. Amend the Interlock Requirements and Test Procedures in S6.10.2.4, S6.10.2.5, S6.10.2.6, S6.10.2.7, S7.5 and S7.6 of FMVSS No. 403

IV. November 3, 2005 Interpretation

V. Proposed Compliance Date

VI. Public Participation

VII. Rulemaking Analyses and Notices

I. Background

December 27, 2002 Final Rule

On December 27, 2002, the agency published in the Federal Register a final rule establishing FMVSS No. 403, Platform lift systems for motor vehicles, and FMVSS No. 404, Platform lift installations in motor vehicles (67 FR 79416). These two new standards provide practicable, performance-based requirements and compliance procedures for the regulations promulgated by the DOT under the Americans with Disabilities Act (ADA).¹ FMVSS Nos. 403 and 404 provide that only lift systems and vehicles manufactured with lift systems that comply with objective safety requirements may be placed in service.

¹ Pub. L. 101-336, 42 U.S.C. 12101, et seq. The ADA directed the DOT to issue regulations to implement the transportation vehicle provisions that pertain to vehicles used by the public. Titles II and III of the ADA set specific requirements for vehicles purchased by municipalities for use in fixed route bus systems and vehicles purchased by private entities for use in public transportation to provide a level of accessibility and usability for individuals with disabilities. 42 U.S.C. 12204.

FMVSS No. 403 establishes requirements for platform lifts that are designed to carry passengers with limited mobility, including those who rely on wheelchairs, scooters, canes and other mobility aids, so that they can move into and out of motor vehicles. The standard requires that these lifts meet minimum platform dimensions and maximum size limits for platform protrusions and gaps between the platform and either the vehicle floor or the ground. The standard also requires handrails, a threshold warning signal, and retaining barriers and specifies performance tests.

FMVSS No. 404 establishes requirements for vehicles that, as manufactured, are equipped with platform lifts. The lifts installed on those vehicles must be certified as meeting FMVSS No. 403, must be installed according to the lift manufacturer's instructions, and must continue to meet all of the applicable requirements of FMVSS No. 403 after installation. The standard also requires that specific information be made available to lift users.

Recognizing that the usage patterns of platform lifts used in public transit differ from those of platform lifts for individual (i.e., private) use, the agency established separate requirements for public use lifts and private use lifts. FMVSS No. 404, S4.1.1 requires that the lift on each lift-equipped bus, school bus and multipurpose passenger vehicle other than a motor home with a gross vehicle weight rating (GVWR) more than 4,536 kg (10,000 lb) must be certified as meeting all applicable public use lift requirements set forth in FMVSS No. 403. FMVSS No. 404, S4.1.2 requires the lift on each lift-equipped vehicle with a GVWR of 4,536 kg (10,000 lb) or less to be certified to either the public use or private use lift requirements set forth in FMVSS No. 403. Stricter requirements apply to vehicles with public use lifts than to vehicles with private use lifts, as public use lifts generally are subject to more stress and cyclic loading and will be used by more numerous and varied populations.

As required by the ADA, FMVSS Nos. 403 and 404 are consistent with the Architectural and Transportation Barriers Compliance Board (ATBCB) guidelines published on September 6, 1991 (56 FR 45530). In order to provide manufacturers sufficient time to meet any new requirements established in FMVSS Nos. 403 and 404, the agency provided a two-year lead-time, which scheduled the standards to become effective on December 27, 2004.

October 1, 2004 Final Rule

On October 1, 2004, in response to petitions for reconsideration of its December 27, 2002 final rule, the agency published a final rule in the Federal Register revising FMVSS Nos. 403 and 404. Among the changes made by the October 1, 2004 final rule, the agency amended the requirements for lighting on public use lifts, edge guard requirements, and the wheelchair test device specifications (69 FR 58843).

On December 23, 2004, the agency published an interim final rule in the Federal Register delaying the compliance date until April 1, 2005 for FMVSS No. 403 and July 1, 2005 for FMVSS No. 404 (69 FR 76865). On July 15, 2005, the agency published in the Federal Register a denial of petitions for reconsideration of its October 1, 2004 final rule (70 FR 40917). The July 15, 2005 document did not address the petitions received from the Blue Bird Body Company (Blue Bird), the School Bus Manufacturers Technical Council (SBMTC), which represents school bus manufacturers (including Blue Bird), and the Manufacturers Council of Small School Buses (MCSSB), an affiliate of the National Truck Equipment Association formed to represent the interest of small manufacturers, requesting changes in the required level of lighting on public use lift platforms, as that issue was outside the scope of the October 2004 final rule. The notice stated that the agency would treat the documents as petitions for rulemaking and respond in a separate notice. Today's notice addresses the issue raised by the Blue Bird, SBMTC and MCSSB petitions.

Petitions for Rulemaking

Since that time, NHTSA received three additional petitions for rulemaking seeking revisions to FMVSS Nos. 403 and 404. Specifically, we received petitions from Maxon Lift Corporation (Maxon), Ricon Corporation (Ricon) and the Lift-U Division of Hogan Manufacturing, Inc. (LIFT-U), all of which are platform lift manufacturers. The petitioners requested that the agency amend: (A) The control panel switch requirements in S6.7.6.2 of FMVSS No. 403 so that lift controls in locations remote from the driver's seating position are not subject to the illumination requirements in S5.3 of FMVSS No. 101; (B) the threshold warning signal requirements in S6.1.4 of FMVSS No. 403 to permit warning lights to be mounted in a location clearly visible in reference to the lift; (C) the threshold warning signal requirements in S6.1.4 and S6.1.6 of FMVSS No. 403 to clarify the units of measurement and minimum required luminance at the designated measurement point; (D) the threshold warning test in S7.4 of FMVSS No. 403 to include a performance test for warning systems using infrared and other sensor technologies; (E) the wheelchair test device specification in S7.1.2 of FMVSS No. 403 to include anti-tip devices; (F) the wheelchair retention device impact test specifications in S7.7 of FMVSS No. 403 to permit use of a loaded wheelchair test device; and (G) the requirements for platform lighting on public use lifts in S4.1.5 of FMVSS No. 404 to reduce the required illumination levels to those specified by the ADA and FTA. The issues raised by petitioners are addressed below in Section II of this notice.

Technical Changes

In Section III of this notice, the agency proposes additional technical changes to FMVSS Nos. 403 and 404 designed to further clarify these standards, including revisions to: (A) S7 of FMVSS No. 403 to require performance of the handrail test in S7.12 on a lift/vehicle combination rather than on a test jig; (B) Figure 2 in FMVSS No. 403 to make it consistent with the threshold beacon warning requirements in S6.1.6; (C) the control panel switch requirements in S6.7.4 of FMVSS No. 403; and (D) the Interlock Requirements and Test Procedures in S6.10.2.4, S6.10.2.5, S6.10.2.6, S6.10.2.7, S7.5 and S7.6 of FMVSS No. 403.

November 3, 2005 Interpretation of S7.4 of FMVSS No. 403

In Section IV of this notice, the agency discusses an interpretation of S7.4 of FMVSS No. 403, dated November 3, 2005, issued to Maxon. The November 3 interpretation clarified specific procedures that should be performed as part of the threshold warning signal test. Although the agency has decided against revising the language of S7.4, we include a discussion of the matter in this notice to ensure wide-spread dissemination of its interpretation.

II. Petitions for Rulemaking

A. Amend the Control Panel Switch Requirements in S6.7.6.2 of FMVSS No. 403 So That Lift Controls in a Location Remote From the Driver's Seating Position Are Not Subject to the Illumination Requirements in S5.3 of FMVSS No. 101

A petition for rulemaking was received from Maxon, in which it requested that the agency revise the control panel switch requirements in S6.7.6.2 of FMVSS No. 403 so that lift controls located outside the immediate vicinity of the driver's seating position are not subject to the illumination requirements in S5.3 of FMVSS No. 101. S6.7.6.2 requires that public use lifts have characters illuminated in accordance with S5.3 of FMVSS No. 101 when the vehicle's headlights are illuminated. S5.3.2.2(a)-(b) of FMVSS No. 101 requires that controls provide adjustable illumination to provide at least two levels of brightness, one of which is barely discernible to a driver who has adapted to dark ambient roadway conditions.

Maxon stated that it is not reasonable for the agency to apply the illumination requirements in S5.3 of FMVSS 101 to lift controls on public use lifts that are not located near the driver's seat. Maxon stated that, even in dark ambient road conditions, when a driver gets up from his seat to be near the lift during operation, the interior lights of the vehicle likely will be on and will ruin the driver's dark adaptation. The petition noted that, even if the vehicle's interior lights are off, the platform lights required by FMVSS Nos. 403 and 404 are bright enough to ruin a driver's dark adaptation.

Agency's response: The agency tentatively agrees with Maxon. The purpose of applying the illumination requirements in S5.3 of FMVSS No. 101 to public use lifts is to prevent illuminated lift controls located in the area of the driver's seat from distracting a driver who has adapted to dark ambient roadway conditions. Although the current language in S6.7.6.2 of FMVSS No. 403 does not address the issue of control location, the agency never intended the more stringent illumination requirements applicable to dashboard controls and displays to apply to lift controls not located in the vicinity of the driver. Accordingly, we propose amending S6.7.6.2 to clarify that only public use lift controls located within the portion of the passenger compartment specified in S5.3.4(a) of FMVSS No. 101 (i.e., the portion of the passenger compartment which is forward of a transverse vertical plane 110 mm rearward of the manikin “H” point with the driver's seat in its rearmost driving position) must have characters that are illuminated in accordance with S5.3 of that standard, when the vehicle's headlights are illuminated. However, to prevent errors in operation during dark conditions, NHTSA believes that lift controls located away from the driver's seat should be illuminated in some fashion. We therefore are proposing to amend S6.7.6.2 also to require that lift controls located outside the portion of the passenger compartment specified in S5.3.4(a) of FMVSS No. 101 must have a means for illuminating the characters to make them visible under daylight and nighttime conditions.

B. Amend the Threshold Warning Signal Requirements in S6.1.4 of FMVSS No. 403 To Permit Warning Lights To Be Mounted in a Location Clearly Visible in Reference to the Lift

Maxon petitioned the agency also to amend the threshold warning signal location requirements in S6.1.4 of FMVSS No. 403. S6.1.4 requires, in part, that the visual warning signal be installed such that it does not require more than a ± 15 degree side-to-side head rotation as viewed by a passenger in a wheelchair backing onto the platform from the interior of the vehicle. In its petition, Maxon stated that this location requirement does not indicate whether NHTSA intends a passenger to use peripheral vision to satisfy the standard. If not, it took the position that warning signals would need to be installed on the opposite side of the bus. The visibility of the warning signals in that location might be blocked by a chair, person or structure within the bus, and wiring associated with the lights would need protection from cutting and other damage. Maxon requested that the warning signal requirements of S6.1.4 be amended to permit warning lights to be mounted in a location clearly visible in reference to the lift, which presumably would result in more options for locating the warning signal where passengers will see it.

Agency response: The location requirements for a threshold warning signal in S6.1.4 of FMVSS No. 403 were adopted from Society of Automotive Engineers (SAE) J2093, Design Considerations For Wheelchair Lifts For Entry To or Exit From a Personally Licensed Vehicle (SAE J2093), which provides that “the visual warning shall be located such that it can be seen by a person backing onto the lift wherever the lift is installed.” SAE J2093 requires that an unobstructed line-of sight pathway must exist between the warning signal and the general area where a passenger transitions from the vehicle floor to the lift platform. The SAE requirement permits the warning signal to be located on the vehicle or the lift, provided a clear line-of-sight exists.

In promulgating S6.1.4, NHTSA modified SAE J2093 to include additional language designed to address the safety needs of persons in powered wheelchairs, who often have limited side-to-side head movement, and of passengers who transverse onto the lift platform in a forward direction. Specifically, S6.1.4 includes a requirement not found in SAE J2093 that the warning signal be installed such that it does not require more than ± 15 degrees side-to-side head rotation as viewed by a passenger backing onto the platform from the interior of the vehicle and contains a similar head rotation limitation applicable to passengers traveling forward onto the platform. However, S6.1.4 does not specify the position from which the warning signal must be viewed; whether the measurement is a line-of-sight measurement or whether peripheral vision may be used; or a reference point for determining the ± 15 degrees side-to-side head rotation. Consequently, the agency acknowledges that the language added by NHTSA to SAE J2093 created ambiguity in the warning signal location requirement. To eliminate this ambiguity, we propose amending S6.1.4 to revert to language similar to that which appears in SAE J2093.

The agency would prefer to define the threshold warning signal requirement generally, rather than in specific geographic terms, due to the many variables that may affect a passenger's line-of-sight, including variation in vehicle type, lift design and a passenger's visual acuity. Even a clear line-of-sight between a passenger backing onto the lift and a warning signal does not ensure that a passenger will see the signal, as in the case of a passenger looking away from the signal or who has a visual impairment may not see it. For this reason, S6.1.3 requires public use lifts to have both visual and audible warnings. Nevertheless, we believe that specifying a point in S6.1.4 from which the warning signal must be viewed will eliminate confusion stemming from the language “as viewed by a passenger backing onto the platform from the interior of the vehicle.” Accordingly, we propose to amend S6.1.4 also to provide that the point from which the warning signal must be visible will be 914 mm (3 ft) above the center of the threshold area as shown in Figure 2 of that Standard. The proposed revision will allow the threshold warning beacon to be mounted on the vehicle or the interior portion of the lift as long as there is a clear line-of-sight between the beacon and the point 914 mm (3 ft) above the center of the threshold warning area.

C. Amend the Threshold Warning Signal Requirements in S6.1.4 and S6.1.6 of FMVSS No. 403 To Clarify the Units of Measurement and Minimum Required Luminance at the Designated Measurement Point

Ricon also petitioned the agency to amend the threshold warning signal requirements in S6.1.4 and S6.1.6. S6.1.4 provides, among other things, that the visual warning required by S6.1.2 and S6.1.3 must be a flashing red beacon with a minimum intensity of 20 candela. S6.1.6 provides that the intensity of the visual warning required by S6.1.4 is measured at the location 914 mm (3ft) above the center of platform threshold area. Ricon stated in its petition that, after discussions with industry suppliers of lighting equipment, it has confirmed that “candela” is a measurement of output at the source, not of output measured a specified distance from the source. Ricon suggested that the correct terminology for the measurement of luminous intensity at a specified distance from the source either should be “lux” or “foot-candles.” On the basis of its discussions with industry suppliers and its own analysis of what it characterized as the “worst-case condition (i.e., Public Use—Motor Coach applications),” Ricon suggested also that NHTSA replace the “minimum intensity of 20 candelas” language in S6.1.4 with “minimum intensity of 3.0 Lux (.27 foot candles).” According to the petitioner, this change would negate the need for any change in the language of S6.1.6.

Agency response: We agree with Ricon that the requirement in S6.1.4 of a beacon with a minimum intensity of 20 candelas provides a measurement of minimum luminous intensity at the source and that foot-candles or Lux (lm/ft2) would be the correct unit of measurement of the density of light that falls on a surface. As discussed above, NHTSA originally based its threshold warning signal requirements on SAE J2093, which provides in part that a visual threshold warning signal “shall be a flashing red beacon of a minimum 21 candlepower (candlepower is luminous intensity expressed in candelas) and be located such that it can be seen by a person backing onto the lift wherever the lift is installed.” Unlike S6.1.6, the SAE requirement does not specify a measurement point. Thus, when the agency adopted FMVSS No. 403, it did not include in S6.1.4 or S6.1.6 the minimum criteria necessary to measure the illuminance or light density required at the measurement point specified in S6.1.6.

The location of a warning beacon, its distance from the measurement point and the illuminance level necessary at the measurement point to alert passengers all are factors that vary from vehicle to vehicle. Consequently, it would be quite difficult for us to identify in S6.1.6 a universally applicable measuring point from which to assess a beacon's compliance with the 20 candela minimum intensity requirement in S6.1.4. Accordingly, to eliminate the problem of specifying appropriate units and an acceptable minimum illuminance at the measurement point, the agency proposes to amend S6.1.6 to bring the requirement in line with SAE J2093, the standard on which it was based. Specifically, to ensure that passengers recognize when a warning beacon is flashing, S6.4.2 would continue to require that the beacon have a minimum luminous intensity of 20 candelas. However, the agency proposes to eliminate from S6.1.6 the current measurement at the measurement point requirement and, instead, replace it with a more general visibility requirement, consistent with our proposed revision to S6.1.4, discussed above in Section II. B. of this Notice, entitled Amend the Threshold Warning Signal Requirements in S6.1.4 of FMVSS No. 403 To Permit Warning Lights To Be Mounted In a Location Clearly Visible In Reference To the Lift. Specifically, the agency proposes new language for S6.1.4 providing that the intensity of the audible warning and the visibility of the visual warning required by S6.1.2 and S6.1.3 are measured/observed at a location 914 mm (3 ft) above the center of the platform threshold area detailed in Figure 2 of the standard.

D. Amend the Threshold Warning Test in S7.4 of FMVSS No. 403 To Include a Performance Test for Warning Systems Using Infrared and Other Sensor Technologies

In its petition, LIFT-U requests that we amend the specifications for the threshold warning signal test to include a performance test for threshold sensors that do not detect weight. S7.4.2 details the performance test for demonstrating compliance with S6.1.2 and S6.1.3. It specifies the use of the unloaded power wheelchair test device specified in S7.1.2. The test procedure consists of maneuvering one front wheel of the unloaded test device onto any portion of the threshold area defined in S4 of FMVSS 403 while the lift platform is at the vehicle floor level loading position. The platform then is moved down until the alarm is actuated. The wheel of the test device is removed from the threshold area to deactivate the alarm and the vertical distance between the platform and the threshold area is measured to determine whether the distance is greater than 25 mm (1 in).

LIFT-U acknowledged that the test prescribed in S7.4, which calls for use of an unoccupied test device, is effective for validating sensor technologies that sense weight, such as pressure sensitive mats. However, the petitioner stated that the unoccupied test device may not be suitable for testing the compliance of threshold warning technologies that do not use weight as a detection criterion, such as infrared and other sensors. LIFT-U pointed out that S6.1 does not specify use of a particular threshold warning system required to detect a passenger in the threshold area of a lift and that there are many sensor technologies that are effective for detecting people in safety applications. LIFT-U stated also that NHTSA has made clear in its commentary and letters of interpretation relating to FMVSS 403 that the purpose the threshold warning required by S6.1 is to detect and alert a passenger entering the threshold area when the platform lift is not in proper position. Because its infrared technology accomplishes the purpose of S6.1, LIFT-U requested that we revise S7.4 to include a performance test that would permit warning systems with sensors that do not detect weight to demonstrate compliance with S6.1.2 and S6.1.3. Specifically, the petitioner suggested that NHTSA adopt a test that is substantially identical to the current performance requirement with the addition of an occupant in the wheelchair test device.

Agency Response: The agency grants LIFT-U's petition and is proposing to revise S7.4 to include a performance test to enable threshold warning systems using infrared and other technologies to demonstrate compliance with S6.1 and S6.3. When NHTSA adopted S7.4, infrared-based sensor systems for platform lifts did not exist. However, as currently drafted, S7.4 does not limit the technologies permitted under the agency's threshold-warning systems requirement only to pressure sensitive mats. Instead, NHTSA originally mandated use of the unoccupied wheelchair test device for the threshold warning performance test because its downward force triggers weight-based warning systems and its structure triggers light beam-based warning systems. Use of the wheelchair test device also reduces the need for additional test fixtures and represents the most common mobility device accommodated by platform lifts. Additionally, when one front wheel of the unloaded test device is placed on the platform, it exerts a relatively low downward force (approximately 11.3 kg (25 pounds)) and has a contact area/foot-print sufficient to assure that the warning system will detect a passenger using a wheelchair, cane or walker, or even a small child without a mobility aid, who may be preparing to board the platform from the vehicle floor.

While S7.4 is broad enough to encompass more than just weight-based warning systems, we do not want to limit the technologies that may be used to meet this performance standard. Use of warning systems with infrared and other sensor technologies to comply with S6.1.2 and S6.1.3 is consistent with the purpose of the threshold warning requirements to protect passengers from moving onto a lift platform from the interior of a vehicle when it is not safe to do so. NHTSA therefore is proposing to amend the test procedure in S7.4 to allow a human representative of a 5th percentile female, as specified in FMVSS No. 208, S29.1(f) and S29.2, to be present in the wheelchair test device during the threshold warning test. We selected the 5th percentile female as it is representative of the smallest human subject that properly can occupy the wheelchair test device, which is an adult size powered wheelchair. A 5th percentile female seated in the wheelchair test device increases from approximately 11.3 kg (25 pounds) to approximately 18.1 kg (40 pounds) the force exerted by the front wheel of the test device on the lift platform. However, NHTSA does not believe that this increase in weight will detract from the effectiveness of the test to assess the compliance of weight-based warning systems, as a pressure sensitive mat with 40 lb threshold for actuation still will detect a passenger using a mobility aid or a small child without a mobility aid who may be boarding the lift platform from the vehicle floor. If a lift manufacturer chooses to certify to S6.1.2 and S6.1.3 with a human representative of a 5th percentile female in the S7.4 test procedure, the manufacturer shall select this option by the time it certifies the lift and may not thereafter select a different test option for the lift.

E. Amend the Wheelchair Test Device Specification in S7.1.2 of FMVSS No. 403 To Include Anti-tip Devices

Ricon petitioned the agency to amend the wheelchair test device specification in S7.1.2 of FMVSS No. 403 to include anti-tipping devices. The specification set forth in S7.1.2 currently does not permit the wheelchair test device to be outfitted with an anti-tipping device. In its petition, Ricon states that it is common industry practice to equip powered wheelchairs with an anti-tipping feature, especially if the wheelchair is to be used in public transportation. Ricon states also that the addition of this feature to S7.1.2 will make the test device more representative of current industry standards.

Agency response: The agency denies Ricon's request that the wheelchair test device specification set forth in S7.1.2 of FMVSS No. 403 be amended to include anti-tipping devices. The wheelchair test device is used in the wheelchair retention device impact tests specified in S7.7 to determine whether a lift's wheelchair retention equipment complies with S6.4.7.1 and S6.4.7.2. It also is used in the inner roll stop tests specified in S7.8 to assess whether its inner roll stops comply with the requirements in S6.4.8.3. In these tests, the test device evaluates the ability of the wheelchair retention device and inner roll stop to prevent the wheelchair from rolling over the outer and inner edges of the platform. Neither test is designed specifically to simulate real world operating conditions.

When the means of retaining a wheelchair test device is an outer barrier, the addition of anti-tipping bars limits the climbing ability of the test device and decreases the utility of the impact test. The agency notes also that a user can rotate anti-tipping devices to an “up” position, which renders them ineffective, or easily remove them. Additionally, not all wheelchairs used on platform lifts are equipped with anti-tipping devices. For these reasons, the agency believes that the addition of anti-tip devices to S7.1.2 would not necessarily make the wheelchair test device more representative of a real world operating environment, but would reduce the effectiveness of the compliance tests.

F. Amend the Wheelchair Retention Impact Test Specifications in S7.7 of FMVSS No. 403 To Permit Use of a Loaded Wheelchair Test Device

Ricon petitioned the agency also to amend the wheelchair retention impact test requirements in S7.7 of FMVSS No. 403 to permit the addition of weight to the wheelchair test device. S7.7 currently does not permit the wheelchair test device to be loaded during the wheelchair retention device impact test. In support of its petition, Ricon submitted a technical analysis indicating that the center of gravity of an unloaded wheelchair changes significantly with respect to the lift upon impact with an outer barrier serving as a wheelchair retention device. Ricon found that, in combination with the continued forward motion of the drive wheels, this change in the center of gravity upon impact with the outer barrier causes the test device to flip backward, resulting in failure of the impact test. Ricon's analysis indicated that this occurrence is unrelated to the height of the outer barrier. On the basis of its analysis, Ricon concluded that the addition of weight (it recommended a load of 110 pounds (50 kilograms) to simulate a 5th percentile female occupant) to the seat of the wheelchair test device during the impact test will prevent the wheelchair from flipping backward after impact with the test barrier and make the test more representative of real world conditions.

Agency Response: The agency grants Ricon's petition to propose amending the wheelchair retention impact test specifications to add weight to the seat of the wheelchair test device during the impact test specified in S7.7. This test examines whether a wheelchair test device will roll over or plow through a platform's wheelchair retention device upon impact at different speeds and wheelchair directions. Data from recent testing performed by NHTSA confirms the results of the technical analysis submitted by Ricon. Adding a low profile weight to the seat of the wheelchair test device will help stabilize it during both the wheelchair retention and inner roll stop impact tests. Adding weight to the wheelchair test device, however, also will increase the force with which the test device strikes the barrier being tested, which could cause some currently acceptable barriers to fail. Therefore, NHTSA proposes an amendment to S7.7 to permit, but not require, the addition of a 50 kilogram (110 pound) weight to the seat of the wheelchair test device, distributed evenly and symmetrically, during testing. This load will provide some additional stability and, in most cases, will prevent the wheelchair test device from falling backwards after impact with the wheelchair retention barrier. If a lift manufacturer chooses to certify to S6.4.7 with a 50 kilogram weight in the seat of the wheelchair test device in the S7.7 test procedure, the manufacturer shall select this option by the time it certified the lift and may not thereafter select a different test option.

The petition from Ricon and our recent testing prompted the agency to consider revising other aspects of the wheelchair retention device and inner roll stop tests specified in S7.7 and S7.8. Our testing indicated that during forward impact tests on wheelchair retention and roll stop devices, even a loaded wheelchair test device sometimes fell backwards on the platform or remained upright, but without all four wheels in contact with the platform. During some rearward outer barrier impact tests, the wheelchair test device climbed the outer barrier and went off the platform.

Technically, these outcomes constitute failures of the wheelchair retention test specified in S7.7 and the inner roll stop test specified in S7.8. We believe that the outcomes were caused by the continued application of power to the drive wheels of the wheelchair test device after impact.

In the case of wheelchair retention device and inner roll stop impact tests, the wheelchair test device is used primarily as a barrier evaluator. It tests whether the wheelchair test device will plow through or roll over the barrier when striking it at specific speeds. We believe that it could be difficult to design wheelchair retention devices and inner roll stops that protect wheelchair passengers from all possible situations without interfering with the normal operation of the lift. We also believe that it is sufficient to ensure that the strength and configuration of wheelchair retention devices and inner roll stops are such that wheelchairs will not plow through or roll over them. With such systems in place and in typical real world situations, occupied wheelchairs will not be moving at high rates of speed on the platform, occupants will terminate drive power upon impact with a barrier, and occupied wheelchairs will be retained on the platform without falling over.

Thus, the technical failures described in Ricon's petition and replicated in our testing appear to be more a function of current test methods than the inadequacy of the wheelchair retention device or inner roll stop being tested.

Consequently, the agency is proposing amendments to the test specifications in S7.7 and S7.8 to provide for termination of the wheelchair drive motors via the wheelchair controller after the initial impact of any portion of the wheelchair test device with the barrier. These tests currently require that a test device remain powered following the impact with a barrier. However, maintaining power to the test device after the impact not only contributes to the technical failures discussed above (i.e., those unrelated to the adequacy of the outer barrier or inner roll stop being tested), but also may result in testing inconsistencies, due to differences in the drive wheel torque and stall rates of some test devices.

Terminating power during the wheelchair retention and inner roll stop impact tests will stabilize the wheelchair test device after impact and thereby help prevent such technical failures and related damage to the wheelchair test device and/or lift. At the same time, the proposed amendment will not reduce significantly the force with which the test device strikes the barrier or otherwise compromise the effectiveness of the tests. In addition, removing power to the drive motors via the wheelchair controller rather than by terminating power at the batteries will prevent the automatic parking brakes of the test device from engaging, which could undermine the integrity of the tests.

As these tests are complete after impact, NHTSA proposes amending S6.4.7 to strike the current requirement that the wheelchair test device remain upright with all of its wheels in contact with the platform surface following impact. Instead, NHTSA proposes to revise S6.4.7 to provide that a wheelchair retention device passes the impact test if, after impact, the wheelchair test device remains supported by the platform surface with none of the axles of its wheels extending beyond the plane perpendicular to the platform reference plane (Figure 1) which passes through the edge of the platform surface that is traversed when entering or exiting the platform from the ground level loading position. The proposed test criteria references axles rather than wheels to prevent the occurrence of another type of technical failure (i.e., test failure unrelated to the adequacy of the barrier) during rearward testing, when the large wheels of the wheelchair test device may rest on the platform and touch the outer barrier with tires extending beyond the plane after impact.

On the same basis, NHTSA proposes amending S6.4.8.3 to provide that an inner roll stop passes the impact portion of the test if the front wheels of the wheelchair test device do not extend beyond the plane that is perpendicular to the platform reference plane (Figure 1) and which passes through the edge of the platform where the roll stop is located when the lift is at ground level loading position.

G. Amend the Requirements for Platform Lighting on Public Lifts in S4.1.5 of FMVSS No. 404 To Reduce the Illumination Levels to Those Specified by the ADA and FTA

Blue Bird, the SBMTC and the MCSSB requested that the agency amend S4.1.5 to reduce the required platform illumination levels to those specified by the ADA and FTA.² S4.1.5 currently requires that public use lifts have a light or set of lights that provides at least 54 lm/m² (5 lm/ft²) of luminance on all portions of the surface of the platform, throughout the range of passenger operation. S4.1.5 requires also that, at ground level, all portions of the lift's unloading ramp have at least 11 lm/m² (1 lm/sqft). The platform lighting requirements in FMVSS No. 404 apply to public-use lifts installed on vehicles with a GVWR greater than 4536 kg (10,000 pounds), including motor coaches, transit buses and school buses.

² The ADA lighting specification was based on existing Federal Transit Administration (FTA) lighting requirements set forth in 49 CFR 609.15.

Section 38.31 of the ADA Accessibility Specifications for Transportation Vehicles requires 2 lm/sqft of illumination on the lift platform at floor level and 1 lm/sqft of illumination on the lift platform or ramp at ground level. While S4.1.5 of FMVSS No. 404 and Section 38.31 of the ADA Accessibility Specifications impose lighting requirements for platforms or ramps at ground level that are identical, S4.1.5 imposes a platform lighting requirement, throughout the range of operation, that is more than 2½ times greater than that required by the ADA.

In support of its request, the MCSBB argues that the ADA platform lighting requirements have been in effect for some time and appear to be reasonable. It therefore contends that continuing to require compliance with the higher lighting requirements set forth in S4.1.5 seems “quite excessive and unjustified.” Blue Bird, the MCSBB, and the SBMTC all state that imposing lighting requirements in excess of those required by the ADA could have adverse safety effects, including a potential burn risk to users, distraction to oncoming drivers and glare in the eyes of users. The SBMTC also states that the higher luminance level requirements could place a drain on a vehicle's battery during lift operation, which typically occurs with the vehicle's engine shut off. Additionally, Blue Bird notes that the December 27, 2002 Final Rule identifies the ADA and FTA as sources for the platform lighting requirements set forth in S4.1.5. Yet, as discussed above, S4.1.5 adopted a platform lighting standard that, in parts, far exceeds ADA and FTA standards.

Agency Response: The agency grants the petitions of Blue Bird, the SBMTC and the MCSSB to propose amending S4.1.5 to reduce the required platform illumination levels to those specified by the ADA and FTA. The lighting requirements in S4.1.5 were based, generally, on guidelines and requirements that specified lighting levels for similar access areas in different modes of public transport. For example, the Federal Aviation Administration (FAA) Human Factors Design Guide ³ provides for a minimum illumination level on corridors of approximately 110 lm/m² or 110 Lux (10.2 lm/ft² or 10.2 foot-candle). Similar guidelines identify a suggested illumination level of as much as 100 lm/m² or 100 Lux (9.3 lm/ft² or 9.3 foot-candle) for general lighting in corridors, stairs and other access areas. Although not specific to lift platforms, the lighting guidelines and requirements applicable to corridors and stairs are relevant to lift platforms, as corridors, stairs and platform lifts all are types of access areas. Given the lighting requirements applicable to these comparable access areas, the agency therefore believes it is not accurate to describe as “excessive” or “unjustified” the requirement in S4.5.1 that a platform lift be illuminated by at least 54 lm/m² (5 lm/ft²), throughout the range of passenger operation.

³ U.S. Department of Transportation, Federal Aviation Administration Human Factors Design Guide for acquisitions of Commercial-off-the-shelf subsystems, non-developmental items, and developmental systems, January 15, 1996, DOT/FAA/CT-96/1.

That being said, Blue Bird is correct in noting that NHTSA's December 27, 2002 Final Rule identifies the ADA and FTA as the sources for the platform lighting requirements set forth in S4.1.5, even though S4.5.1's illumination requirements, in parts, exceed ADA and FTA lighting specifications significantly. Additionally, in our October 1, 2004, final rule (69 FR 58843), which responded to petitions for reconsideration, NHTSA stated as one justification for moving the lighting requirements from FMVSS No. 403 to FMVSS No. 404 and to demonstrate that such a move would not impose an additional burden on public use manufacturers—that “public-use vehicle manufacturers already must comply with ADA lighting standards, which require lighting on doorways, step-wells, lifts and ramps.” However, the platform lighting requirements in FMVSS No. 404-and the ADA would need to be coextensive in order to avoid placing an additional burden on manufacturers by requiring that they comply both with the ADA and with the more rigorous lighting requirements in FMVSS No. 404.

We note also that the National Technology Transfer and Advancement Act ⁴ would have required NHTSA to adopt industry and government platform lighting standards, provided they were not impractical.⁵ In retrospect, the extent to which the agency intended to adopt the FTA-based ADA lighting standard applicable to public use lifts is unclear. However, amending S4.1.5 to reduce the required platform illumination levels to those specified by the ADA and FTA at this juncture would be consistent with that Act.

⁴ The National Technology Transfer and Advancement Act requires Federal agencies to use technical standards that are developed or adopted by voluntary consensus standards bodies when such technical standards are available (see section 12(d) of Pub. L. 104-113) and are consistent with authorizing legislation of the agencies.

⁵ As defined in OMB Circular A-119, Federal Participation in the Development and Use of Voluntary Consensus Standards and in Conformity Assessment Activities, “impractical” includes circumstances in which such use would fail to serve the agency's program needs; would be infeasible; would be inadequate, ineffectual, inefficient, or inconsistent with agency mission; or would impose more burdens, or would be less useful, than the use of another standard.

Therefore, as a result of the petitions from Blue Bird, the SBMTC and the MCSSB and for the reasons stated above, NHTSA is persuaded to propose changing the minimum illumination required on lift platforms to that required by the ADA and FTA. Additionally, in response to comments received by the agency about the lack of a test procedure to demonstrate compliance with the lighting requirement, NHTSA is proposing to amend S4.5.1 to provide vehicle manufacturers with guidance relative to platform illumination testing, which NHTSA proposes should be done with a vehicle's engine shut off.

III. Technical Changes

A. Amend S7 of FMVSS No. 403 To Require Performance of the Handrail Test in S7.12 on a Lift/Vehicle Combination Rather Than on a Test Jig

S6.4.9 of FMVSS No. 403 details the handrail requirements for public and private use lifts. S6.4.9.8 of that standard provides that “when tested in accordance with S7.12.1, there must be at least 38 mm (1.5 inches) of clearance between each handrail and any portion of the vehicle, throughout the range of passenger operation.” In order to measure this clearance, the lift must be mounted on a vehicle during the test. However, the test conditions and procedures set forth in S7 currently permit the tests specified in S7.12 to be performed with a lift installed on a test jig rather than on a vehicle. If performed on a test jig, it is not possible to determine clearances between the handrails and the vehicle during the test. NHTSA proposes to amend S7 of FMVSS No. 403 to require the handrail test to be performed on a lift/vehicle combination.

B. Correct Figure 2 in FMVSS No. 403 To Make it Consistent With the Threshold Beacon Warning Requirements in S6.1.6

It has come to NHTSA's attention that a dimension in Figure 2 is incorrect. The height of the measurement point from which the intensity of the threshold audible warning is measured and the threshold warning beacon must be visible is identified as 919 mm. Because S6.1.6 provides that this measurement point is 914 mm (3 feet), we are proposing to replace Figure 2 with revised Figure 2, which shows a measurement point of 914 mm (3 feet), consistent with the requirements of S6.1.6.

C. Clarify the Control Panel Switch Requirements in S6.7.4 of FMVSS No. 403

It has come to our attention through letters from lift manufacturers in response to NHTSA's compliance testing that some confusion exists about the control panel switch requirements in S6.7.4 of FMVSS 403. S6.7.4 provides that, except for the POWER function, the control panel switches that control the stow (fold), deploy (unfold), down (lower) and up (raise) functions must prevent the simultaneous performance of more than one function. Commenters have indicated that S6.7.4 does not specify what is required when two or more switches are actuated simultaneously. To clarify what the standard requires, NHTSA is proposing to amend S6.7.4 to provide that if an initial function is actuated, then one or more other functions are actuated while the initial function remains actuated, the platform must either continue in the direction dictated by the initial function or stop. Compliance test procedure TP-403-00, Laboratory Test Procedure for FMVSS No. 403, Platform Lift Systems for Motor Vehicles addresses this issue and can be viewed or obtained from the NHTSA Web site (http://www.nhtsa.dot.gov).

D. Amend the Interlock Requirements and Test Procedure in S6.10.2.4, S6.10.2.5, S6.10.2.6, S6.10.2.7, S7.5 and S7.6 of FMVSS No. 403

As a result of compliance testing and subsequent, related communications from a lift manufacturer, it has come to NHTSA's attention that some confusion exists about how the test that is specified in S7.5 is to be used to verify compliance with the interlock requirements in S6.10.2.5 (interlock to prevent vertical movement of the lift unless the wheelchair retention device is deployed) and S6.10.2.6 (interlock to prevent outer barrier deployment while barrier area is occupied). Based on communications received by the agency, it appears that some manufacturers believe that the portion of the test procedure described in S7.5.2 applies only to the requirements of S6.10.2.5 and that the portion of the procedure described in S7.5.3 applies only to S6.10.2.6. Consequently, NHTSA proposes revising and renumbering these sections to reinforce the fact that S7.5.2 and S7.5.3 together constitute one test procedure used to determine compliance with the interlock requirements in S6.10.2.5 as well as with the interlock requirements in S6.10.2.6.

Confusion also exists about how the test that is specified in S7.6 and verifies compliance with the inner roll stop occupancy interlock requirements and the inner roll stop non-deployment interlock requirements applies to the inner roll stop requirements in S6.10.2.4. Specifically, the test procedure set forth in S7.6.2 and S7.6.3 uses as a reference point for determining the location at which the roll stop “starts to deploy.” By contrast, the inner roll stop non-deployment interlock requirement set forth in S6.10.2.4 assesses compliance at “the level where the inner roll stop is designed to deploy.” At least one manufacturer found the conflicting terminology between the test procedure and this requirement incompatible. Consequently, NHTSA has proposed revising S7.6.2 and S7.6.3 to replace references to “start to deploy” with references to “designed to deploy,” consistent with the requirement set forth in S6.10.2.4. Additionally, to maintain symmetry between the outer barrier and inner roll stop interlock test procedures, we have proposed revising and renumbering these sections to reinforce the fact that S7.6.2 and S7.6.3 together constitute one test procedure used to determine compliance with the interlock requirements set forth in both S6.10.2.4 and S6.10.2.7.

NHTSA also is aware of additional confusion stemming from the portion of the outer barrier interlock test procedure specified in S7.5.2. The current test procedure detailed in S7.5.2 provides that the platform should be stopped and its distance from the ground measured at the location where the outer barrier begins to deploy to verify that it is not greater than 75 mm (3 in). This measurement has little value because NHTSA is concerned mainly that the outer barrier be fully deployed by the time the platform is 75 mm (3 in) above the ground. NHTSA proposes new language in S7.5.1.1 and S7.5.1.2 that provides for the platform to be moved up until the outer barrier starts to deploy. This maneuver will help to determine the edge where to place the wheel of the wheelchair test device. The new proposed language then instructs that the front wheel of the wheelchair test device be placed on the edge of the outer barrier and that the platform be moved up until it stops. If both interlocks are working correctly, the wheel of the wheelchair test device will prevent the outer barrier from deploying, the wheelchair test device wheel will not move vertically upward more then 13 mm (0.5 in) and the platform will automatically stop before its upper surface is greater than 75 mm (3 in) above the ground. If the outer roll stop deploys and raises the wheelchair test device wheel off the platform more than 13 mm (0.5 inches), the lift fails S6.10.2.6. If the wheelchair test device wheel prevents the outer barrier from deploying and the platform stops at a level greater than 75 mm (3 in) above the ground, the lift fails S6.10.2.5.

It has come to NHTSA's attention that similar confusion exists with respect to the inner roll stop interlock test detailed in S7.6.2. S7.6.2 provides that the location where the inner roll stop starts to deploy should be noted during testing. However, this location is of little value when assessing compliance with S6.10.2.5, as NHTSA is interested primarily in the location where the inner roll stop fully deploys—not where it starts to deploy. Unlike the outer barrier, NHTSA has no specification relative to the level at which inner roll stops should deploy. The inner roll stop will fully deploy at different levels depending on the lift design. Therefore, during testing, NHTSA notes the location where the inner roll stop deploys fully on the particular lift being tested, as well as when the wheel of the wheelchair test device prevents deployment; the platform automatically should stop before it goes beyond the location were the inner roll stop deploys fully.

New proposed language in S7.6.2 and S7.6.3 now requires that the location where the inner roll stop fully deploys should be noted. It also requires that the platform be moved back to vehicle floor level and then down until the inner roll stop starts to deploy. This maneuver helps to determine the edge where the wheel of the wheelchair test device must be placed. One front wheel of the wheelchair test device is placed on the edge of the inner roll stop and the platform is moved down until it automatically stops. If the inner roll stop deploys and raises the wheelchair test device wheel vertically more than 13 mm (0.5 in), the lift fails S6.10.2.7. If the wheel of the wheelchair test device prevents the inner roll stop from deploying and the platform travels beyond the full deployment location previously noted, then the lift fails S6.10.2.4. The lift passes both S6.10.2.4 and S6.10.2.7 if inner roll stop does not deploy, does not raise the wheel of the wheelchair test device vertically more than 13 mm (0.5 in) and the platform automatically stops before it travels beyond the previously noted location where the inner roll stop is designed to be fully deployed.

IV. November 3, 2005 Interpretation

On November 3, 2005, we issued an interpretation letter of S7.4 of FMVSS No. 403, addressed to Maxon. The November 3 interpretation clarified specific procedures that should be performed as part of the threshold warning signal test. Although the agency has decided against revising the language of S7.4, we include a discussion of the matter in this document to ensure wide-spread dissemination of the interpretation.

In asking about the threshold warning requirements, the incoming letter suggested that there was an apparent inconsistency between the requirement and the associated test procedure. The agency explained, as follows, that the specified test procedure for the threshhold warning system is consistent with that requirement:

As part of FMVSS No. 403, the agency established a threshold warning signal requirement for platform lifts in part to minimize the risk of a lift user backing off a vehicle before a lift is properly positioned. S6.1 of FMVSS No. 403 requires an appropriate threshold warning signal to be activated when any portion of a passenger's body or mobility aid occupies the platform threshold area defined in S4 of that standard, and the platform is more than 25 mm (1 inch) below the vehicle floor reference plane. A platform lift must meet this requirement when tested in accordance with S7.4 of the standard.

In your letter you stated that it is possible to design a threshold warning system that “will pass a test that is performed as described in S7.4 and not completely fulfill the requirements of S6.1.3”. You described a threshold warning system designed with an optical sensor at the interior boundary of the platform threshold area. You stated that such a system would activate the warning signal only when a passenger is crossing the boundary of the threshold at the same time as the platform is lower than 25 mm from the vehicle floor. You further stated that such a system would not activate a signal if a passenger were completely within the threshold area when the platform reached the specified distance from the vehicle floor. Your letter indicated that you believe that such a system would “pass” the test procedure, but not comply fully with the requirement.

A system as you described would not comply with the requirements of S6.1.3 when tested as specified in S7.4. As stated above, S6.1 requires the appropriate warning signal to activate when tested in accordance with S7.4. S7.4.2 specifies that, with the platform lift at the vehicle floor loading position:

[P]lace one front wheel of the unloaded wheelchair test device [specified in S7.1.2] on any portion of the threshold area defined in S4. Move the platform down until the alarm is actuated. Remove the test wheelchair wheel from the threshold area to deactivate the alarm. Measure the vertical distance between the platform and the threshold area and determine whether that distance is greater than 25 mm (1 in).

Thus, S7.4.2 specifies placing the front wheel of the test device on any portion of the threshold area. As explained in 49 CFR § 571.4, the use of the term “any” in connection with a range of values or set of items means generally, “the totality of the items or values, any one of which may be selected by the [agency] for testing”. Accordingly, the procedure specified in S7.4.2 includes placement of the front wheel that could result in the entire test device being within the threshold area prior to the platform being lowered. This also includes placement that results in a portion of the test device being on the platform.

Given the discussion above, a system such as you described would not comply when tested under S7.4.2. As such, there is no discrepancy between the requirement of S6.1.3 and the test procedure specified in S7.4.

V. Proposed Compliance Date

The proposed amendments would be mandatory for purposes of compliance 180 days after publication of a final rule. Optional compliance would be permitted immediately upon publication of the final rule. We believe these dates would be appropriate given that the amendments would be for the purpose of clarifying the requirements of the standard and providing further flexibility in compliance.

VI. Public Participation

How Do I Prepare and Submit Comments?

Your comments must be written and in English. To ensure that your comments are correctly filed in the Docket, please include the docket number of this document in your comments. Your comments must not be more than 15 pages long.⁶ We established this limit to encourage you to write your primary comments in a concise fashion. However, you may attach necessary additional documents to your comments. There is no limit on the length of the attachments.

⁶ See 49 CFR 553.21.

Please submit your comments by any of the following methods:

• Federal eRulemaking Portal: go to http://www.regulations.gov. Follow the online instructions for submitting comments.

• Mail: Docket Management Facility, M-30, U.S. Department of Transportation, West Building, Ground Floor, Rm. W12-140, 1200 New Jersey Avenue, SE., Washington, DC 20590.

• Hand Delivery or Courier: West Building Ground Floor, Room W12-140, 1200 New Jersey Avenue, SE., between 9 am and 5 pm Eastern Time, Monday through Friday, except Federal holidays.

• Fax: (202) 493-2251.

If you are submitting comments electronically as a PDF (Adobe) file, we ask that the documents submitted be scanned using Optical Character Recognition (OCR) process, thus allowing the agency to search and copy certain portions of your submissions.⁷

⁷ Optical character recognition (OCR) is the process of converting an image of text, such as a scanned paper document or electronic fax file, into computer-editable text.

Please note that pursuant to the Data Quality Act, in order for substantive data to be relied upon and used by the agency, it must meet the information quality standards set forth in the OMB and DOT Data Quality Act guidelines. Accordingly, we encourage you to consult the guidelines in preparing your comments. OMB's guidelines may be accessed at http://www.whitehouse.gov/omb/fedreg/reproducible.html. DOT's guidelines may be accessed at http://dmses.dot.gov/submit/DataQualityGuidelines.pdf.

How Can I Be Sure That My Comments Were Received?

If you submit your comments by mail and wish Docket Management to notify you upon its receipt of your comments, enclose a self-addressed, stamped postcard in the envelope containing your comments. Upon receiving your comments, Docket Management will return the postcard by mail.

How Do I Submit Confidential Business Information?

If you wish to submit any information under a claim of confidentiality, you should submit three copies of your complete submission, including the information you claim to be confidential business information, to the Chief Counsel, NHTSA, at the address given above under FOR FURTHER INFORMATION CONTACT. When you send a comment containing information claimed to be confidential business information, you should include a cover letter setting forth the information specified in our confidential business information regulation.⁸

⁸ See 49 CFR 512.

In addition, you should submit a copy, from which you have deleted the claimed confidential business information, to the Docket by one of the methods set forth above.

Will the Agency Consider Late Comments?

We will consider all comments received before the close of business on the comment closing date indicated above under DATES. To the extent possible, we will also consider comments received after that date. If a comment is received too late for us to consider in developing a final rule (assuming that one is issued), we will consider that comment as an informal suggestion for future rulemaking action.

How Can I Read the Comments Submitted by Other People?

You may read the materials placed in the docket for this document (e.g., the comments submitted in response to this document by other interested persons) at any time by going to http://www.regulations.gov. Follow the online instructions for accessing the dockets. You may also read the materials at the Docket Management Facility by going to the street address given above under ADDRESSES. The Docket Management Facility is open between 9 a.m. and 5 p.m. Eastern Time, Monday through Friday, except Federal holidays.

VII. Rulemaking Analyses and Notices

Executive Order 12866 and DOT Regulatory Policies and Procedures

This rulemaking document was not reviewed by the Office of Management and Budget under E.O. 12866. It is not considered to be significant under E.O. 12866 or the Department's Regulatory Policies and Procedures (44 FR 11034; February 26, 1979).

This document proposes amendments to FMVSS Nos. 403 and 404 to clarify the requirements of the standard and to provide further flexibility in compliance. The impacts of the proposed amendments are so minimal that a full regulatory evaluation is not required. Readers who are interested in the overall costs and benefits of the platform lift requirements are referred to the agency's Final Economic Assessment for the December 2002 final rule (Docket No. NHTSA-2002-13917-3). The amendments proposed by this document will not change the costs and benefits in a quantifiable manner.

Regulatory Flexibility Act

In compliance with the Regulatory Flexibility Act, 5 U.S.C. 601 et seq., NHTSA has evaluated the effects of this action on small entities. I hereby certify that this proposed rule would not have a significant impact on a substantial number of small entities. The NPRM does not propose to impose new requirements but instead proposes amendments to FMVSS Nos. 403 and 404 to clarify the requirements of the standards and to provide further flexibility in compliance.

Executive Order 13132

NHTSA has examined today's NPRM pursuant to Executive Order 13132 (64 FR 43255, August 10, 1999) and concluded that no additional consultation with States, local governments or their representatives is mandated beyond the rulemaking process. The agency has concluded that the rulemaking would not have federalism implications because a final rule, if issued, would not have “substantial direct effects on the States, on the relationship between the national government and the States, or on the distribution of power and responsibilities among the various levels of government.”

Further, no consultation is needed to discuss the preemptive effect of today's rulemaking. NHTSA rules can have preemptive effect in at least two ways. First, the National Traffic and Motor Vehicle Safety Act contains an express preemptive provision: “When a motor vehicle safety standard is in effect under this chapter, a State or a political subdivision of a State may prescribe or continue in effect a standard applicable to the same aspect of performance of a motor vehicle or motor vehicle equipment only if the standard is identical to the standard prescribed under this chapter.” 49 U.S.C. 30103(b)(1). It is this statutory command that preempts State law, not today's rulemaking, so consultation would be inappropriate.

In addition to the express preemption noted above, the Supreme Court has also recognized that State requirements imposed on motor vehicle manufacturers, including sanctions imposed by State tort law, can stand as an obstacle to the accomplishment and execution of a NHTSA safety standard. When such a conflict is discerned, the Supremacy Clause of the Constitution makes their State requirements unenforceable. See Geier v. American Honda Motor Co., 529 U.S. 861 (2000). NHTSA has not outlined such potential State requirements in today's rulemaking, however, in part because such conflicts can arise in varied contexts, but it is conceivable that such a conflict may become clear through subsequent experience with today's standard and test regime. NHTSA may opine on such conflicts in the future, if warranted. See id. at 883-86.

National Environmental Policy Act

NHTSA has analyzed this NPRM for the purposes of the National Environmental Policy Act. The agency has determined that implementation of this action would not have any significant impact on the quality of the human environment.

Paperwork Reduction Act

Under the procedures established by the Paperwork Reduction Act of 1995, a person is not required to respond to a collection of information by a Federal agency unless the collection displays a valid OMB control number. This NPRM would not establish any new information collection requirements.

National Technology Transfer and Advancement Act

Under the National Technology Transfer and Advancement Act of 1995 (NTTAA) (Pub. L. 104-113), “all Federal agencies and departments shall use technical standards that are developed or adopted by voluntary consensus standards bodies, using such technical standards as a means to carry out policy objectives or activities determined by the agencies and departments.”

As discussed in the preamble to the December 2002 final rule, the equipment standard was drafted to include or exceed all existing government (FTA, ADA) and voluntary industry (e.g., SAE) standards. 67 FR 79416, 79438; December 27, 2002. Readers who are interested in the source of the requirements in FMVSS No. 403 are referred to that document. The agency included a table showing the source of each requirement in FMVSS No. 403.

This document is not proposing to impose new requirements but is instead proposing amendments to FMVSS Nos. 403 and 404 to clarify the requirements of the standards and to provide further flexibility in compliance. As discussed earlier in this document, the proposal to amend S4.1.5 of FMVSS No. 404 to reduce the required platform illumination levels to those specified by the ADA and FTA is consistent with the NTTAA.

Executive Order 12988

With respect to the review of the promulgation of a new regulation, section 3(b) of Executive Order 12988, “Civil Justice Reform” (61 FR 4729, February 7, 1996) requires that Executive agencies make every reasonable effort to ensure that the regulation: (1) Clearly specifies the preemptive effect; (2) clearly specifies the effect on existing Federal law or regulation; (3) provides a clear legal standard for affected conduct, while promoting simplification and burden reduction; (4) clearly specifies the retroactive effect, if any; (5) adequately defines key terms; and (7) addresses other important issues affecting clarity and general draftsmanship under any guidelines issued by the Attorney General. This document is consistent with that requirement.

Pursuant to this Order, NHTSA notes as follows. The preemptive effect of this proposed rule is discussed above. NHTSA notes further that there is no requirement that individuals submit a petition for reconsideration or pursue other administrative proceeding before they may file suit in court.

Unfunded Mandates Reform Act

The Unfunded Mandates Reform Act of 1995 requires agencies to prepare a written assessment of the costs, benefits and other effects of proposed or final rules that include a Federal mandate likely to result in the expenditure by State, local or tribal governments, in the aggregate, or by the private sector, of more than $100 million annually (adjusted for inflation with base year of 1995). This NPRM would not result in expenditures by State, local or tribal governments, in the aggregate, or by the private sector in excess of $100 million annually.

Executive Order 13045

Executive Order 13045 (62 FR 19885, April 23, 1997) applies to any rule that: (1) Is determined to be “economically significant” as defined under E.O. 12866, and (2) concerns an environmental, health, or safety risk that NHTSA has reason to believe may have a disproportionate effect on children. This rulemaking is not subject to the Executive Order because it is not economically significant as defined in E.O. 12866.

Executive Order 13211

Executive Order 13211 (66 FR 28355, May 18, 2001) applies to any rulemaking that: (1) Is determined to be economically significant as defined under E.O. 12866, and is likely to have a significantly adverse effect on the supply of, distribution of, or use of energy; or (2) that is designated by the Administrator of the Office of Information and Regulatory Affairs as a significant energy action. This rulemaking is not subject to E.O. 13211.

Plain Language

Executive Order 12866 and the President's memorandum of June 1, 1998, require each agency to write all rules in plain language. Application of the principles of plain language includes consideration of the following questions:

• Have we organized the material to suit the public's needs?

• Are the requirements in the rule clearly stated?

• Does the rule contain technical language or jargon that isn't clear?

• Would a different format (grouping and order of sections, use of headings, paragraphing) make the rule easier to understand?

• Would more (but shorter) sections be better?

• Could we improve clarity by adding tables, lists, or diagrams?

• What else could we do to make the rule easier to understand?

If you have any responses to these questions, please include them in your comments on this proposal.

Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

List of Subjects in 49 CFR Part 571

Imports, Motor vehicle safety, Motor vehicles, and Tires.

In consideration of the foregoing, NHTSA is proposing to amend 49 CFR part 571 as follows:

PART 571—FEDERAL MOTOR VEHICLE SAFETY STANDARDS

1. The authority citation for part 571 of title 49 would continue to read as follows:

Authority: 49 U.S.C. 322, 30111, 30115, 30117, and 30166; delegation of authority at 49 CFR 1.50.

2. Section 571.403 would be amended by revising S6.1.4, S6.1.6, S6.4.7.1, S6.4.8.3(a), S6.7.4, S6.7.6.2, S6.10.2.4, S6.10.2.5, S6.10.2.6, S6.10.2.7, S7, S7.4.2, S7.5, S7.5.1, S7.5.2, S7.5.3, S7.6, S7.6.1, S7.6.2, S7.6.3, S7.7.2.4, S7.7.2.5, S7.8.3, and Figure 2, and by adding new S7.5.1.1 and S7.5.1.2, to read as follows:

§ 571.403 Standard No. 403; Platform lift systems for motor vehicles.

* * * * *

S6.1.4 The visual warning required by S6.1.2 and S6.1.3 must be a flashing red beacon as defined in SAE J578, June 95, must have a minimum intensity of 20 candela, a frequency from 1 to 2 Hz, and must be located within the interior of the vehicle such that it is visible from a point 914 mm (3 ft) above the center of the threshold area (see Figure 2) wherever the lift is installed and with any configuration of the vehicle interior.

* * * * *

S6.1.6 The intensity of the audible warning and visibility of the visual warning required by S6.1.2 and S6.1.3 is measured/observed at a location 914 mm (3 ft) above the center of the platform threshold area. (See Figure 2).

* * * * *

S6.4.7.1 Impact I. Except for platform lifts designed so that platform loading takes place wholly over the vehicle floor, the lift must have a means of retaining the test device specified in S7.1.2. After impact, the test device must remain supported by the platform surface with none of the axles of its wheels extending beyond the plane perpendicular to the platform reference plane (Figure 1) and which passes through the edge of the platform which is traversed when entering or exiting the platform from the ground level loading position throughout its range of passenger operation, except as provided in S6.4.7.4. The lift is tested in accordance with S7.7 to determine compliance with this section.

* * * * *

S6.4.8.3 * * *

(a) The front wheels of the test device specified in S7.1.2 from extending beyond the plane that is perpendicular to the platform reference plane (Figure 1) and which passes through the edge of the platform where the roll stop is located when the lift is at ground level loading position; and

* * * * *

S6.7.4 Except for the POWER function described in S6.7.2.1, the control system specified in S6.7.2 must prevent the simultaneous performance of more than one function. If an initial function is actuated, then one or more other functions are actuated while the initial function remains actuated, the platform must continue in the direction dictated by the initial function or stop. Verification with this requirement is made throughout the lift operations specified in S7.9.3 through S7.9.8.

* * * * *

S6.7.6.2 Public use lifts. Public-use lift controls located within the portion of the passenger compartment specified in S5.3.4(a) of Standard No. 101 (§ 571.101), must have characters that are illuminated in accordance with S5.3 of Standard No.101, when the vehicle's headlights are illuminated. Public-use lift controls located outside the portion of the passenger compartment specified in S5.3.4(a) of Standard No. 101 (§ 571.101) must have means for illuminating the characters to make them visible under daylight and nighttime conditions.

* * * * *

S6.10.2.4 Movement of the platform up or down, throughout the range of passenger operation, unless the inner roll stop required to comply with S6.4.8 is deployed. When the platform reaches a level where the inner roll stop is designed to fully deploy, the platform must stop unless the inner roll stop has fully deployed. Verification with this requirement is made by performing the test procedure specified in S7.6.1.

S6.10.2.5 Movement of the platform up or down, throughout the range of passenger operation, when the highest point of the platform surface at the outer most platform edge is above a horizontal plane 75 mm (3 in) above the ground level loading position, unless the wheelchair retention device required to comply with S6.4.7 is deployed throughout the range of passenger operations. Verification of compliance is made using the test procedure specified in S7.5.1.

S6.10.2.6 In the case of a platform lift that is equipped with an outer barrier, vertical deployment of the outer barrier when it is occupied by portions of the passenger's body or mobility aid throughout the lift operation. When the platform stops, the vertical change in distance of the horizontal plane (passing through the point of contact between the wheelchair test device wheel(s) and the upper surface of the outer barrier) must not be greater than 13 mm (0.5 in). Verification of compliance with this requirement is made using the test procedure specified in S7.5.1.

S6.10.2.7 Vertical deployment of the inner roll stop required to comply with S6.4.8 when it is occupied by portions of a passenger's body or mobility aid throughout the lift operations. When the platform stops, the vertical change in distance of the horizontal plane (passing through the point of contact between the wheelchair test device wheel(s) and the upper surface of the inner roll stop or platform edge) must not be greater than 13 mm (0.5 in). Verification of compliance with this requirement is made using the test procedure specified in S7.6.1.

* * * * *

S7 Test conditions and procedures. Each platform lift must be capable of meeting all of the tests specified in this standard, both separately, and in the sequence specified in this section. The tests specified in S7.4, S7.7.4 and S7.8 through S7.12 are performed on a single lift and vehicle combination. The tests specified in S7.2, S7.3, S7.5, S7.6, S7.7.1, S7.8 and S7.13 through S7.14 may be performed with the lift installed on a test jig rather than on a vehicle. Tests of requirements in S6.1 through S6.11 may be performed on a single lift and vehicle combination, except for the requirements of S6.5.3. Attachment hardware may be replaced if damaged by removal and reinstallation of the lift between a test jig and vehicle.

* * * * *

S7.4.2 During the threshold warning test, the wheelchair test device may be occupied by a human representative of a 5th percentile female meeting the requirements of FMVSS 208, S29.1(f) and S29.2. If present, the human subject must be seated in the wheelchair test device and their feet supported by the wheelchair foot rests which are adjusted properly for length and in the down position (not elevated). The manufacturer shall select the option by the time it certifies the lift and may not thereafter select a different test option for the lift. Maneuver the lift platform to the vehicle floor level loading position. Using the wheelchair test device specified in S7.1.2, place one front wheel of the wheelchair test device on any portion of the threshold area defined in S4. Move the platform down until the alarm is actuated. Remove the test wheelchair wheel from the threshold area to deactivate the alarm. Measure the vertical distance between the platform and the threshold area and determine whether that distance is greater than 25 mm (1 in).

* * * * *

S7.5 Outer barrier non-deployment interlock and occupied outer barrier interlock test.

S7.5.1 Determine compliance with both S6.10.2.5 and S6.10.2.6 by using the following single test procedure.

S7.5.1.1 Place the test jig or vehicle on which the lift is installed on a flat, level, horizontal surface. Maneuver the platform to the ground level loading position. Using the lift control, move the lift upward until the point where the outer barrier fully deploys. Stop the platform at that point and measure the vertical distance between the highest point on the platform surface at the outer most edge and the ground to determine whether the distance is greater than 75 mm (3 in.). Reposition the platform in the ground level loading position. Locate the wheelchair test device specified in S7.1.2 on the platform. If other wheelchair retention devices (e.g., a belt retention device) prevent the front wheel of the wheelchair test device from accessing the outer barrier when on the platform, the wheelchair test device may be placed on the ground facing the entrance to the lift.

S7.5.1.2 Place one front wheel of the wheelchair test device on any portion of the outer barrier. If the platform is too small to maneuver one front wheel on the outer barrier, two front wheels may be placed on the outer barrier. Note the distance between a horizontal plane (passing through the point of contact between the wheelchair test device wheel(s) and the upper surface of the outer barrier) and the ground. Using the lift control, move the platform up until it stops. Measure the vertical distance between the highest point of the platform surface at the outer most edge and the ground to determine compliance with S6.10.2.5. Measure the vertical change in distance of the horizontal plane (passing through the point of contact between the wheelchair test device wheel(s) and the upper surface of the outer barrier) to determine compliance with S6.10.2.6.

S7.6 Inner roll stop non-deployment interlock and occupied inner roll stop interlock test.

S7.6.1 Determine compliance with both S6.10.2.4 and S6.10.2.7 by using the single test procedure in S7.6.2 and S7.6.3.

S7.6.2 Maneuver the platform to the vehicle floor level loading position, and position the wheelchair test device specified in S7.1.2 on the platform with the front of the wheelchair test device facing the vehicle. Using the lift control, move the platform down until the inner roll stop fully deploys. Stop the lift and note that location.

S7.6.3 Reposition the platform at the vehicle floor level loading position. Place one front wheel of the wheelchair test device on the inner roll stop. If the platform is too small to maneuver one front wheel on the inner roll stop, two front wheels may be placed on the inner roll stop. Note the vertical distance between a horizontal plane (passing through the point of contact between the wheelchair test device wheel(s) and the upper surface of the inner roll stop) and the ground. Using the lift control, move the platform down until it stops. Compare the location of the platform relative to the location noted in S7.6.2 to determine compliance with S6.10.2.4. Measure the vertical change in distance of the horizontal plane (passing through the point of contact between the wheelchair test device wheel(s) and the upper surface of the inner roll stop) to determine compliance with S6.10.2.7.

* * * * *

S7.7.2.4 An optional 50 kg (110 pounds) of weight may be centered, evenly distributed and secured in the seat of the wheelchair test device to assist in stabilizing the wheelchair test device during testing. The manufacturer shall select the option by the time it certifies the lift and may not thereafter select a different test option for the lift. Accelerate the test device onto the platform under its own power such that the test device impacts the wheelchair retention device at each speed and direction combination specified in S7.7.2.5. Terminate power to the wheelchair test device by means of the wheelchair controller after the initial impact of any portion of the wheelchair test device with the wheelchair retention device. Note the position of the wheelchair test device following each impact to determine compliance with S6.4.7. If necessary, after each impact, adjust or replace the footrests to restore them to their original condition.

S7.7.2.5 The test device is operated at the following speeds, in the following directions—

(a) At a speed of not less than 2.0 m/s (4.4 mph) and not more than 2.1 m/s (4.7 mph) in the forward direction.

(b) At a speed of not less than 1.75 m/s (3.9 mph) and not more than 1.85 m/s (4.1 mph) in the rearward direction.

* * * * *

S7.8.3 An optional 50 kg (110 pounds) of weight may be centered, evenly distributed and secured in the seat of the wheelchair test device to assist in stabilizing the wheelchair test device during testing. The manufacturer shall select the option by the time it certifies the lift and may not thereafter select a different test option for the lift. Accelerate the test device onto the platform such that it impacts the inner roll stop at a speed of not less than 1.5 m/s (3.4 mph) and not more than 1.6 m/s (3.6 mph). Terminate power to the wheelchair test device by means of the wheelchair controller after the initial impact of any portion of the wheelchair test device with the inner roll stop. Determine compliance with S6.4.8.3 (a).

* * * * *

BILLING CODE 4910-59-P

BILLING CODE 4910-59-C

* * * * *

3. Section 571.404 would be amended by revising S4.1.5 to read as follows:

§ 571.404 Standard No. 404; Platform lift installations in motor vehicles.

* * * * *

S4.1.5 Platform Lighting on public use lifts. Public-use lifts must be provided with a light or set of lights that provide at least 22 lm/m² or 22 Lux (2 lm/ft² or 2 foot-candles) of illumination on all portions of the surface of the platform when the platform is at the vehicle floor level. Additionally, a light or set of lights must provide at least 11 lm/m² or 11 Lux (1 lm/ft² or 1 foot-candle) of illumination on all portions of the surface of the platform and all portions of the surface of the passenger-unloading ramp at ground level. Illumination measurements are recorded with the vehicle engine not running, with the vehicle/lift in an environment where there is no apparent ambient light, with the sensor portion of the light meter within 50 mm (2 inches) of the surface being measured and with a light meter that has a range comparable to a minimum of 0 to 100 Lux, in increments comparable to 1 Lux or less, an accuracy of ± 5 % of the actual reading and a sampling rate of at least 2 Hz.

* * * * *

Issued: December 14, 2007.
Stephen R. Kratzke,
Associate Administrator for Rulemaking.

[FR Doc. 07-6146 Filed 12-19-07; 8:45 am]

BILLING CODE 4910-59-P